DEPARTMENT OF DEFENSE

Department of the Army

Change to the Freight Carrier Registration Program (FCRP) Open Season

AGENCY: Department of the Army, DOD.

ACTION: Notice.

SUMMARY: The Military Surface Deployment and Distribution Command (SDDC) will conduct an Open Season, effective 3 Jun 19 thru 29 Feb 20 (Applications will not be accepted prior to 3 Jun 19). This will affect domestic motor Transportation Service Providers (TSPs) only. TSPs must be registered in the Federal Motor Carrier Safety Administration (FMSCA) and have valid Department of Transportation (DOT) authority for three (3) consecutive years (without a break) prior to 3 Jun 19. New TSPs will indicate their small business status via the Freight Carrier Registration Program (FCRP) during registration. Registration for other modes will continue to be accepted (barge, ocean, pipeline, and international carriers).

ADDRESSES: Submit comments to Military Surface Deployment and Distribution Command, ATTN: AMSSD-OPM, 1 Soldier Way, Scott AFB, IL 62225-5006. Request for additional information may be sent by email to: usarmy.scott.sddc.mbx.carrier-registrations@mail.mil.

FOR FURTHER INFORMATION CONTACT: FCRP Team, (618) 220-6470.

SUPPLEMENTARY INFORMATION:

References: Military Freight Traffic Unified Rules Publication-1 (MFTURP-1).

Miscellaneous: This announcement can be accessed via the SDDC website at: http://www.sddc.army.mil/.

Jessica H. Snyder,
Chief, Domestic Movement Support.

[FR Doc. 2019-12733 Filed 6-14-19; 8:45 am]

BILLING CODE 5001-03-P